ENVIRONMENTAL PROTECTION AGENCY

40 CFR Parts 52 and 81

[Docket #OR-00-002b; FRL-7045-1]

Approval and Promulgation of State Implementation Plans and Designation of Areas for Air Quality Planning Purposes: Oregon

AGENCY: Environmental Protection Agency (EPA).

ACTION: Proposed rule.

SUMMARY: Environmental Protection Agency (EPA) proposes to approve the revisions to Oregon's State Implementation Plan which were submitted on November 20, 2000. These revisions consist of the 1996 carbon monoxide periodic year emissions inventory for Klamath Falls, Oregon and the Klamath Falls carbon monoxide maintenance plan. EPA also proposes to approve Oregon's request for redesignation of Klamath Falls from nonattainment to attainment for carbon monoxide.

In the Final Rules section of this Federal Register, the EPA is approving the State's SIP submittal as a direct final rule without prior proposal because the Agency views this as a noncontroversial submittal and anticipates no adverse comments. If no adverse comments are received in response to this action, no further activity is contemplated.

If the EPA receives adverse comments, the direct final rule will be withdrawn and all public comments received will be addressed in a subsequent final rule based on this proposed rule. The EPA will not institute a second comment period. Any parties interested in commenting on this action should do so at this time.

DATES: Written comments must be received in writing by October 22, 2001.

ADDRESSES: Written comments should be addressed to Connie Robinson, Office of Air Quality (OAQ-107), at the EPA Regional Office listed below.

Copies of the State's request and other information supporting this action are available for inspection during normal business hours at the following locations: EPA, Office of Air Quality (OAQ-107), 1200 Sixth Avenue, Seattle, Washington 98101, and State of Oregon Department of Environmental Quality, 811 SW Sixth Avenue, Portland, Oregon 97204-1390.

FOR FURTHER INFORMATION CONTACT: Connie Robinson, Office of Air Quality (OAQ-107), EPA, Seattle, Washington, (206) 553-1086.

SUPPLEMENTARY INFORMATION: For additional information, see the Direct Final rule which is located in the Rules section of this Federal Register.

Dated: August 21, 2001.
Charles E. Findley,
Acting Regional Administrator, Region 10.

[FR Doc. 01-23219 Filed 9-19-01; 8:45 am]

BILLING CODE 6560-50-P